ENVIRONMENTAL PROTECTION AGENCY

[FRL-9907-16-Region 9]

Yosemite Slough Superfund Site, San Francisco, CA; Notice of Proposed CERCLA Ability To Pay Settlement

AGENCY: Environmental Protection Agency (EPA).

ACTION: Notice; request for comment.

SUMMARY: In accordance with Section 122(i) of the Comprehensive Environmental Response, Compensation and Liability Act of 1980, as amended (CERCLA), 42 U.S.C. 9622(i), notice is hereby given of a proposed administrative settlement with one ability to pay party for recovery of response costs concerning the Yosemite Slough Superfund Site in San Francisco, California. The settlement is entered into pursuant to Section 122(h)(1) of CERCLA, 42 U.S.C. 9622(h)(1), and it requires the settling party to pay $50,000 to the United States Environmental Protection Agency (Agency). The settlement includes a covenant not to sue the settling party pursuant to Sections 106 or 107(a) of CERCLA, 42 U.S.C. 9606 or 9607(a). For thirty (30) days following the date of publication of this notice in the Federal Register, the Agency will receive written comments relating to the settlement. The Agency will consider all comments received and may modify or withdraw its consent to the settlement if comments received disclose facts or considerations which indicate the proposed settlement is inappropriate, improper, or inadequate. The Agency's response to any comments received will be available for public inspection at 75 Hawthorne Street, San Francisco, CA 94105.

DATES: Pursuant to Section 122(i) of CERCLA, EPA will receive written comments relating to this proposed settlement until March 31, 2014.

ADDRESSES: The proposed settlement is available for public inspection at EPA Region IX, 75 Hawthorne Street, San Francisco, California. A copy of the proposed settlement may be obtained from Rachel Tennis, Attorney-Adviser (ORC-3), Office of Regional Counsel, U.S. EPA Region IX, 75 Hawthorne Street, San Francisco, CA 94105; phone: (415) 972-3746. Comments should reference the Yosemite Slough Superfund Site, San Francisco, California and should be addressed to Rachel Tennis at the above address.

FOR FURTHER INFORMATION CONTACT: Rachel Tennis, Attorney-Adviser (ORC-3), Office of Regional Counsel, U.S. EPA Region IX, 75 Hawthorne Street, San Francisco, CA 94105; phone: (415) 972-3746; fax: (417) 947-3570; email: tennis.rachel@epa.gov.

SUPPLEMENTARY INFORMATION: Party to the Proposed Settlement: Angelica Gnzalez.

Dated: February 6, 2014.
Enrique Manzanilla,
Director, Superfund Division, U. S. EPA, Region IX.

[FR Doc. 2014-04322 Filed 2-26-14; 8:45 am]

BILLING CODE 6560-50-P